CHEMICAL SAFETY AND HAZARD INVESTIGATION BOARD

Notice To Cancel a Sunshine Act Meeting Scheduled for January 14, 2004

The January 14, 2004, public meeting of the Chemical Safety and Hazard Investigation Board in connection with its investigation into the cause of a deadly explosion and the leakage of 26,000 pounds of aqua ammonia into the atmosphere from the DD Williamson & Co., Inc. plant in Louisville, Kentucky, has been cancelled. The public meeting had been scheduled to begin at 9:30 a.m. local time on January 14, 2004, at the Galt House, 140 North Fourth Street, Louisville, KY. The original Federal Register notice announcing the meeting was published on Thursday, December 18, 2003, 68 FR 70487.

Due to the recent receipt of new information relevant to the investigation and the need to conduct further inquiry, the Board (Merritt, Poje, Bresland, and Medina) has unanimously voted to cancel the meeting scheduled for January 14, 2004, and to reschedule it for a later date.

The DD Williamson incident occurred at 2:10 a.m. on Friday, April 11, 2003, when a vessel explosion at the DD Williamson plant killed an operator and caused extensive damage to the western end of the facility. As a consequence of the explosion, 26,000 pounds of aqua ammonia (29.4% ammonia solution in water) leaked into the atmosphere, forcing the evacuation of 26 residents. The DD Williamson plant employs approximately 45 people and is located in a mixed industrial and residential neighborhood approximately 1.5 miles east of downtown Louisville.

For more information, please contact Raymond Porfiri at the Chemical Safety and Hazard Investigation Board at (202) 261-7600, or visit our Web site at: www.csb.gov.

Raymond C. Porfiri,
Deputy General Counsel.

[FR Doc. 04-792 Filed 1-9-04; 1:05 pm]

BILLING CODE 6350-01-P